DEPARTMENT OF ENERGY

Federal Energy Regulatory Commission

[Project No. 14443-001]

Consolidated Irrigation Company; Notice of Surrender of Preliminary Permit

Take notice that Consolidated Irrigation Company (Consolidated), permittee for the proposed Consolidated Irrigation Glendale Conduit Hydro Project No. 14443 has requested that its preliminary permit be withdrawn from consideration. The permit was issued on October 3, 2013, and would have expired on September 30, 2016.¹ The project would have been located on Mink Creek canal and Cub River canal near the city of Preston in Franklin County, Idaho.

¹ 145 FERC ¶ 62,008 (2013).

The preliminary permit for Project No. 14443 will remain in effect until the close of business, December 9, 2015. But, if the Commission is closed on this day, then the permit remains in effect until the close of business on the next day in which the Commission is open.² New applications for this site may not be submitted until after the permit surrender is effective.

² 18 CFR 385.2007(a)(2) (2015).

Dated: November 9, 2015.
Nathaniel J. Davis, Sr.,
Deputy Secretary.

[FR Doc. 2015-29155 Filed 11-13-15; 8:45 am]

BILLING CODE 6717-01-P